DEPARTMENT OF ENERGY

Federal Energy Regulatory Commission

[Project No. 2547-095]

Village of Swanton, Vermont; Notice of Application Tendered for Filing With the Commission and Soliciting Additional Study Requests and Establishing Procedural Schedule for Relicensing and a Deadline for Submission of Final Amendments

Take notice that the following hydroelectric application has been filed with the Commission and is available for public inspection.

a. Type of Application: New Major License.

b. Project No.: 2547-095.

c. Date Filed: April 29, 2022.

d. Applicant: Village of Swanton, Vermont (Village).

e. Name of Project: Highgate Falls Hydroelectric Project.

f. Location: On Missisquoi River in Franklin County, Vermont. The project does not occupy any federal land.

g. Filed Pursuant to: Federal Power Act 16 U.S.C. 791(a)-825(r).

h. Applicant Contact: Reginald R. Beliveau, Jr., Manager—Village of Swanton, 120 First Street, Swanton, Vermont 05488; call at (802) 868-3397; email at rbeliveau@swanton.net.

i. FERC Contact: Amy Chang at (202) 502-8250, or Amy.Chang@ferc.gov.

j. Cooperating agencies: Federal, state, local, and tribal agencies with jurisdiction and/or special expertise with respect to environmental issues that wish to cooperate in the preparation of the environmental document should follow the instructions for filing such requests described in item l below. Cooperating agencies should note the Commission's policy that agencies that cooperate in the preparation of the environmental document cannot also intervene. See 94 FERC ¶ 61,076 (2001).

k. Pursuant to section 4.32(b)(7) of 18 CFR of the Commission's regulations, if any resource agency, Indian Tribe, or person believes that an additional scientific study should be conducted in order to form an adequate factual basis for a complete analysis of the application on its merit, the resource agency, Indian Tribe, or person must file a request for a study with the Commission not later than 60 days from the date of filing of the application, and serve a copy of the request on the applicant.

l. Deadline for filing additional study requests and requests for cooperating agency status: June 28, 2022.

The Commission strongly encourages electronic filing. Please file additional study requests and requests for cooperating agency status using the Commission's eFiling system at https://ferconline.ferc.gov/FERCOnline.aspx. For assistance, please contact FERC Online Support at FERCOnlineSupport@ferc.gov, (866) 208-3676 (toll free), or (202) 502-8659 (TTY). In lieu of electronic filing, you may submit a paper copy. Submissions sent via the U.S. Postal Service must be addressed to: Kimberly D. Bose, Secretary, Federal Energy Regulatory Commission, 888 First Street NE, Room 1A, Washington, DC 20426. Submissions sent via any other carrier must be addressed to: Kimberly D. Bose, Secretary, Federal Energy Regulatory Commission, 12225 Wilkins Avenue, Rockville, MD 20852. All filings must clearly identify the project name and docket number on the first page: Highgate Falls Hydroelectric Project (P-2547-095).

m. The application is not ready for environmental analysis at this time.

n. Project Description: The existing project consists of: (1) A dam about 670 feet long comprised of: (i) A 235-foot-long earth-filled embankment on the west bank; (ii) a 174-foot-long concrete intake structure; (iii) a 226-foot-long ogee-shaped concrete spillway section with a 15-foot-high pneumatic crest gate and a maximum crest elevation of 190.0 foot National Geodetic Vertical Datum of 1929 (NGVD29) when fully inflated; and (iv) a 35-foot-long concrete abutment on the east bank; (2) an impoundment with a storage capacity of 3,327 acre-feet at an elevation of 190.0 feet NGVD29; (3) a 509-foot-long, 10.5-foot-wide, and 10.5-foot-high concrete conduit connecting to a 243-foot-long, 12-foot-diameter steel penstock that conveys flow from the intake structure to the main powerhouse; (4) a surge tank; (5) a concrete and masonry main powerhouse containing two 1,000-kilowatt (kW), one 2,800-kW, and one 6,000-kW vertical Francis turbine-generators; (6) a 75-foot-long, 5-foot-diameter steel penstock conveying flow from the intake structure to a 710-kW crossflow turbine-generator located within a secondary concrete powerhouse; (7) an outdoor substation; and (8) appurtenant facilities. The project creates an approximately 1,100-foot-long bypassed reach of the Missisquoi River between the dam and the powerhouse discharge.

The current license requires the project operate as a run-of-river facility such that outflow approximates inflow between March 31 and June 1. From June 1 through March 30, the Village operates the project as a peaking facility by generating electricity during daily peak demand periods. When peaking, the Village limits the daily impoundment drawdown to 30 inches or less from the full pond elevation of 190 feet NGVD29. The current license also requires a minimum flow release of 200 cubic feet per second (cfs) or inflow, whichever is less, to the Missisquoi River downstream of the powerhouse, including 35 cfs from the dam to the bypassed reach. The average annual generation of the project was approximately 39,442 megawatt-hours from 2013 through 2020.

The applicant proposes modify current project operations to: (1) Operate the project in run-of-river mode from March 31 through June 15, and during periods when inflow is 400 cfs or less; (2) limit impoundment drawdowns during peaking operation to 18 to 24 inches, instead of 30 inches under current operation; (3) refill the impoundment within 8 hours of each drawdown for peaking operation; (4) continue to provide a minimum flow of 200 cfs downstream of the powerhouse, including the following minimum flows to the bypassed reach: 150 cfs in April and May, 70 cfs in June, and 35 cfs from July through March; (5) develop a freshwater mussel plan for relocating mussels when the impoundment is lowered to 186 feet NGVD 29 or less for prolonged periods of time; (6) develop a plan for protecting horn-leaved riverweed downstream of the Swanton Dam ledges, which are located approximately 7 miles downstream of the powerhouse; (7) provide aesthetic flows of 1 to 3 inches of spill over the dam during certain holidays; (8) improve an existing parking area to accommodate 5 to 7 cars for recreation users; (9) develop a plan to provide access for hand-carry water craft to the impoundment and downstream of the project; and (10) develop an historic properties management plan to protect historic properties.

The applicant also proposes to: (1) Conduct a post-licensing evaluation of the feasibility of using the existing downstream Swanton Dam canal works for upstream fish passage; (2) develop a recreational maintenance and enhancement plan to guide regular maintenance activities at recreation facilities; (3) install a warning system to alert recreation users to increases in flow in the bypassed reach and downstream of the powerhouse; and (4) install an electric vehicle charging station for five vehicles using electricity produced by the hydroelectric plant.

o. In addition to publishing the full text of this notice in the Federal Register, the Commission provides all interested persons an opportunity to view and/or print the contents of this notice, as well as other documents in the proceeding (e.g., license application) via the internet through the Commission's Home Page (http://www.ferc.gov) using the “eLibrary” link. Enter the docket number excluding the last three digits in the docket number field to access the document (P-2547). For assistance, contact FERC at FERCOnlineSupport@ferc.gov or call toll-free, (866) 208-3676 or (202) 502-8659 (TTY).

You may also register online at https://ferconline.ferc.gov/FERCOnline.aspx to be notified via email of new filings and issuances related to this or other pending projects. For assistance, contact FERC Online Support.

p. Procedural schedule: The application will be processed according to the following preliminary schedule. Revisions to the schedule will be made as appropriate.

Issue Deficiency Letter (if necessary) June 2022

Request Additional Information June 2022

Issue Scoping Document 1 for comments September 2022

Request Additional Information (if necessary) October 2022

Issue Acceptance Letter October 2022

Issue Scoping Document 2 (if necessary) November 2022

Issue Notice of Ready for Environmental Analysis November 2022

q. Final amendments to the application must be filed with the Commission no later than 30 days from the issuance date of the notice of ready for environmental analysis.

Dated: May 13, 2022.
Kimberly D. Bose,
Secretary.

[FR Doc. 2022-10780 Filed 5-18-22; 8:45 am]

BILLING CODE 6717-01-P